DEPARTMENT OF COMMERCE

Bureau of Industry and Security

15 CFR Part 744

[Docket No. 240626-0176]

RIN 0694-AJ70

The Unverified List; Additions and Removals

AGENCY: Bureau of Industry and Security, Department of Commerce.

ACTION: Final rule.

SUMMARY: The Bureau of Industry and Security (BIS) is amending the Export Administration Regulations (EAR) by adding 13 persons to the Unverified List (UVL). The 13 persons being added are added under the following destinations: China, Peoples' Republic of (China) (8), Cyprus (1), Kyrgyzstan (1), Türkiye (2), and the United Arab Emirates (UAE) (1). BIS is also amending the EAR by removing eight persons from the UVL. Of the eight persons being removed, one is under the destination of the UAE, one is under the destination of Russia, and six are under the destination of China. This final rule also removes the country name Russia from the UVL. Lastly, this final rule replaces the country name Turkey with Türkiye in the UVL. This is a conforming change to the U.S. State Department's recognition on January 9, 2023, of Türkiye's official name.

DATES: This rule is effective: July 3, 2024.

FOR FURTHER INFORMATION CONTACT: Deniz Muslu Acting Director, Office of Enforcement Analysis, Phone: (202) 482-4255, Email: UVLRequest@bis.doc.gov

SUPPLEMENTARY INFORMATION:

Background

Unverified List

The UVL, found in supplement no. 6 to part 744 of the EAR (15 CFR parts 730-774), contains the names and addresses of foreign persons who are or have been parties to a transaction, as described in § 748.5 of the EAR, involving the export, reexport, or transfer (in-country) of items subject to the EAR. These foreign persons are added to the UVL because BIS or Federal officials acting on BIS's behalf were unable to verify their bona fides (i.e., legitimacy and reliability relating to the end use and end user of items subject to the EAR) through the completion of an end-use check. Sometimes these checks, such as a pre-license check (PLC) or a post-shipment verification (PSV), cannot be completed satisfactorily for reasons outside the U.S. Government's control.

There are a number of reasons why end-use checks cannot be completed to the satisfaction of the U.S. Government. The reasons include, but are not limited to: (1) reasons unrelated to the cooperation of the foreign party subject to the end-use check (e.g., BIS sometimes initiates end-use checks, but is unable to complete them because the foreign party cannot be found at the address indicated on the associated export documents and BIS cannot contact the party by telephone or email); (2) reasons related to a lack of cooperation by a host government that fails to schedule and facilitate the completion of an end-use check (e.g., a host government agencies' lack of response to requests to conduct end-use checks, actions preventing the scheduling of such checks, or refusals to schedule checks in a timely manner); or (3) when, during the end-use check, a recipient of items subject to the EAR is unable to produce the items that are the subject of the end-use check for visual inspection or provide sufficient documentation or other evidence to confirm the disposition of the items.

BIS's inability to confirm the bona fides of foreign persons subject to end-use checks raises concerns about the suitability of such persons as participants in future exports, reexports, or transfers (in-country) of items subject to the EAR; the inability to confirm a foreign person's bona fides also indicates a risk that items subject to the EAR may be diverted to prohibited end uses and/or end users. Under such circumstances, there may not be sufficient information to add the foreign person at issue to the Entity List (supplement no. 4 to part 744 of the EAR) under § 744.11 of the EAR. Therefore, BIS may add the foreign person to the UVL.

As provided in § 740.2(a)(17) of the EAR, the use of license exceptions for exports, reexports, and transfers (in-country) involving a party or parties to the transaction who are listed on the UVL is suspended. Additionally, under § 744.15(b) of the EAR, there is a requirement for exporters, re-exporters, and transferors to obtain, and maintain a record of, a UVL statement from a party or parties to the transaction who are listed on the UVL before proceeding with exports, reexports, and transfers (in-country) to such persons, when the exports, reexports and transfers (in-country) are not subject to a license requirement. Finally, pursuant to § 758.1(b)(8), Electronic Export Information (EEI) must be filed in the Automated Export System (AES) for all exports of tangible items subject to the EAR in which parties to the transaction, as described in § 748.5(d) through (f), are listed on the UVL.

Requests for the removal of a UVL entry must be made in accordance with § 744.15(d) of the EAR. Decisions regarding the removal or modification of UVL entry will be made by the Deputy Assistant Secretary for Export Enforcement, based on a demonstration by the listed person of their bona fides. As provided in § 744.15(c)(2) of the EAR, BIS will remove a person from the UVL when BIS is able to verify the bona fides of the listed person.

Additions to the UVL

This rule adds 13 persons to the UVL by amending supplement no. 6 to part 744 of the EAR to include their names and addresses. BIS is adding these persons pursuant to § 744.15(c) of the EAR. This final rule implements the decision to add the following 13 persons to the UVL: Avant Science Co., Ltd.; Bada Group Hong Kong Corporation, Limited; Hongkong Delta Electronics Technology Co., Limited; Hongxin Technology Limited; Lihang Technology Co., Ltd.; Shenzhen Mingxinyuan Co., Ltd.; Shenzhen Xianhexin Electronics Co., Ltd.; and Xi'An Aerotek Co., Ltd. under the destination of China; Mirsystems Ltd. under the destination of Cyprus; Inerto LLC under the destination of Kyrgyzstan; AUK Group and ER Transport Uluslararasi Tasimacilik Limited Sirketi under the destination of Türkiye; and Navio Shipping LLC under the destination of the UAE.

Removals From the UVL

This rule removes seven persons from the UVL because BIS was able to verify their bona fides. This rule removes the following seven persons located in the following destinations from the UVL: Fulian Precision Electronics (Tianjin) Co., Ltd.; Nanning Fulian Fu Gui Precision Co., Ltd.; Guangzhou Trusme Electronics Technology Co., Ltd.; Guangzhou Xinyun Intelligent Technology Co., Ltd.; Shenzhen Jia Li Chuang Tech Development Co., Ltd.; and Xi'An Yierda Co., Ltd. under the destination of China; and Aero King FZC under the destination of the UAE. BIS is removing these persons pursuant to § 744.15(c)(2) of the EAR. This rule also makes a conforming change to remove one person under the destination of Russia from the UVL on the basis of that person's addition to the Entity List. On February 23, 2024, in the final rule “Additions of Entities to the Entity List” (89 FR 14385 February 27, 2024), BIS added “EFO Company Limited Liability Company” a.k.a. the following three aliases:—OOO EFO;—EFO Ltd.; and—EFO LLC., under the destination of Russia to the Entity List. Therefore, this rule removes “EFO Ltd.”, under the destination of Russia, from the UVL.

Corrections to the UVL

Given the removal of all entries all under the destination of Russia, this final rule removes the destination of Russia from the UVL. This final rule also changes the name of Turkey to Türkiye in the UVL, which impacts the name of the destination and the five entries within that destination. BIS makes this change to conform to the U.S. State Department's recognition on January 9, 2023, of Türkiye's official name.

Export Control Reform Act of 2018

On August 13, 2018, the President signed into law the John S. McCain National Defense Authorization Act for Fiscal Year 2019, which included the Export Control Reform Act of 2018 (ECRA), 50 U.S.C. 4801-4852. ECRA provides the legal basis for BIS's principal authorities and serves as the authority under which BIS issues this final rule.

Savings Clause

Shipments (1) that are removed from license exception eligibility or that are now subject to requirements in § 744.15 of the EAR as a result of this regulatory action; (2) that were eligible for export, reexport, or transfer (in-country) without a license before this regulatory action; and (3) that were on dock for loading, on lighter, laden aboard an exporting carrier, or enroute aboard a carrier to a port of export, on July 3, 2024, pursuant to actual orders, may proceed to that UVL listed person under the previous license exception eligibility or without a license and pursuant to the export clearance requirements set forth in part 758 of the EAR that applied prior to this person being listed on the UVL, so long as the items have been exported from the United States, reexported or transferred (in-country) before August 2, 2024. Any such items not actually exported, reexported or transferred (in-country) before midnight on August 2, 2024 are subject to the requirements in § 744.15 of the EAR in accordance with this rule.

Rulemaking Requirements

Executive Order Requirements

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule is not a “significant regulatory action” under Executive Order 12866.

This rule does not contain policies with Federalism implications as that term is defined under Executive Order 13132.

Paperwork Reduction Act Requirements

Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number.

The UVL additions contain collections of information approved by OMB under the following control numbers:

• OMB Control Number 0694-0088—Simple Network Application Process and Multipurpose Application Form,

• OMB Control Number 0694-0122—Miscellaneous Licensing Responsibilities and Enforcement,

• OMB Control Number 0694-0134—Entity List and Unverified List Requests,

• OMB Control Number 0694-0137—License Exemptions and Exclusions.

BIS believes that the overall increases in burdens and costs will be minimal and will fall within the already approved amounts for these existing collections. Additional information regarding these collections of information—including all background materials—can be found at https://www.reginfo.gov/public/do/PRAMain by using the search function to enter either the title of the collection or the OMB Control Number.

Administrative Procedure Act and Regulatory Flexibility Act Requirements

Pursuant to Section 1762 of ECRA (50 U.S.C. 4821), this action is exempt from the Administrative Procedure Act (5 U.S.C. 553) requirements for notice of proposed rulemaking and opportunity for public participation.

Further, no other law requires notice of proposed rulemaking or opportunity for public comment for this final rule. Because a notice of proposed rulemaking and an opportunity for public comment are not required under the Administrative Procedure Act or by any other law, the analytical requirements of the Regulatory Flexibility Act (5 U.S.C. 601 et seq.) are not applicable.

List of Subjects in 15 CFR Part 744

Exports, Reporting and recordkeeping requirements, Terrorism.

Accordingly, part 744 of the Export Administration Regulations (15 CFR parts 730 through 774) is amended as follows:

PART 744—END-USE AND END-USER CONTROLS

1. The authority citation for 15 CFR part 744 is continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 7, 2023, 88 FR 62439 (September 11, 2023); Notice of November 1, 2023, 88 FR 75475 (November 3, 2023).

2. Supplement no. 6 to part 744 is amended:

a. Under CHINA, PEOPLE'S REPUBLIC OF, by:

i. Adding entries in alphabetical order for “Avant Science Co., Ltd.” and “Bada Group Hong Kong Corporation Limited”;

ii. Removing the entries for “Fulian Precision Electronics (Tianjin) Co., Ltd.;” “Guangzhou Trusme Electronics Technology Co., Ltd.;” and “Guangzhou Xinyun Intelligent Technology Co., Ltd.”;

iii. Adding entries in alphabetical order for “Hongkong Delta Electronics Technology Co., Limited”, “Hongxin Technology Limited”, and “Lihang Technology Co., Ltd.”;

iv. Removing the entries for “Nanning Fulian Fu Gui Precision Industrial Co., Ltd.” and “Shenzhen Jia Li Chuang Tech Development Co., Ltd.”;

v. Adding entries in alphabetical order for “Shenzhen Mingxinyuan Co., Ltd.”, “Shenzhen Xianhexin Electronics Co., Ltd.”, and “Xi'An Aerotek Co., Ltd.”; and

vi. Removing the entry for “Xi'An Yierda Co., Ltd.”;

b. By adding an entry in alphabetical order for CYPRUS;

c. By adding an entry in alphabetical order for KYRGYZSTAN;

d. By removing the entry for “RUSSIA”;

g. By removing the entry for “TURKEY” and adding an entry for “TÜRKIYE” in its place; and

h. Under UNITED ARAB EMIRATES by

i. ii. Removing the entry for “Aero King FZC”; and

ii. Adding an entry in alphabetical order for “Navio Shipping LLC”.

The additions read as follows:

Supplement No. 6 to Part 744—Unverified List

* * * * *

Country | Listed person and address | Federal Register citation
* * * * * * *
CHINA, PEOPLES REPUBLIC OF
* * * * * * *
| Avant Science Co., Ltd., 24/F Che Wah Industrial Building No 1-7 Kin Hong St., Kwai Chung, New Territories, Hong Kong | 89 FR [INSERT FEDERAL REGISTER PAGE NUMBER] 7/3/2024.
* * * * * * *
| Bada Group Hong Kong Corporation, Limited Unit 102-104, 1/F, Kerry Warehouse, San Po Street, Sheung Shui Hong Kong; and Rm 102, 1/F, China Resources Logistics Sheung Shui Warehouse No. 2 San Po Street, Sheung Shui, New Territories, Hong Kong | 89 FR [INSERT FEDERAL REGISTER PAGE NUMBER] 7/3/2024.
* * * * * * *
| Hongkong Delta Electronics Technology Co., Limited Unit 3, 6/F Kam Hon Industrial Building 8 Wang Kwun Road, Kowloon Bay, Hong Kong | 89 FR [INSERT FEDERAL REGISTER PAGE NUMBER] 7/3/2024.
| Hongxin Technology Limited, B/5, 5/F, Block 1, Camel Paint Building 62 Hoi Yuen Road, Kwun Tong, Kowloon, Hong Kong; and Flat/Rm 917B, Block A, 9/F, New Mandarin Plaza No. 14 Science Museum Road, Tsim Sha Tsui, Kowloon, Hong Kong | 89 FR [INSERT FEDERAL REGISTER PAGE NUMBER] 7/3/2024.
* * * * * * *
| Lihang Technology Co., Ltd., Shenhua Industrial Building Room 602, Chiwei, Binhe Avenue, Futian District Shenzhen, Guangdong, China | 89 FR [INSERT FEDERAL REGISTER PAGE NUMBER] 7/3/2024.
* * * * * * *
| Shenzhen Mingxinyuan Co., Ltd., No. 18 Zhonghang Road New Asia Guoli Building Room 1319, Huaqiangbei, Futian District, Shenzhen, Guangdong, China | 89 FR [INSERT FEDERAL REGISTER PAGE NUMBER] 7/3/2024.
| Shenzhen Xianhexin Electronics Co., Ltd., Huaqiang North Street, Dingcheng Building 613, Futian District, Shenzhen, Guangdong, China | 89 FR [INSERT FEDERAL REGISTER PAGE NUMBER] 7/3/2024.
* * * * * * *
| Xi'An Aerotek Co., Ltd., No. 4 First Road Hi Tech Zone Xi'An, Shaanxi, China | 89 FR [INSERT FEDERAL REGISTER PAGE NUMBER] 7/3/2024.
* * * * * * *
CYPRUS | Mirsystems Ltd, Griva Digeni 28 1st Floor, Nicosia, 1066 Cyprus | 89 FR [INSERT FEDERAL REGISTER PAGE NUMBER] 7/3/2024.
* * * * * * *
* * * * * * *
KYRGYZSTAN | Inerto LLC, Lermontov Street House 1, Bishkek, Kyrgyzstan | 89 FR [INSERT FEDERAL REGISTER PAGE NUMBER] 7/3/2024.
* * * * * * *
TÜRKIYE | AUK Group, Kurtulus Mah. Sinasi Efendi Sk. Ahmet Paksoy Apt. No:17 Kat:2, Seyhan. Adana 01010, Türkiye; and 34277 Arnavutkoy Tayakadin Mah. Branch, Istanbul 34540, Türkiye | 89 FR [INSERT FEDERAL REGISTER PAGE NUMBER] 7/3/2024.
| BLC Havacilik Saglik Medikal Insaat Elektrik Ic ve Dis Ticaret Asemek San.Sit. 1469 Cad. No:18, İvedik—OSB 06378, Ankara, Türkiye | 88 FR 17708, March 24, 2023. 89 FR [INSERT FEDERAL REGISTER PAGE NUMBER] 7/3/2024.
| ER Transport Uluslararasi Tasimacilik Limited Sirketi, Kucukbakkalkoy Mah. Dudullu Cad. R2 Blok Sitesi Brandium Blok NO:23-25b Ic Kapi No:86 Atasehir, Istanbul, Türkiye; and Serifali Mah. Buyukyavuz Sk. Royal Plaza B Blok No:3 Ic Kapi No:16 Umraniye, Istanbul, Türkiye | 89 FR [INSERT FEDERAL REGISTER PAGE NUMBER] 7/3/2024.
| Fast Aviation, Yesilkoy MAH Ataturk, Cad. EGS Bloklari, B:2 No:2 D:1, Istanbul, Türkiye | 85 FR 64017, October 9, 2020. 89 FR [INSERT FEDERAL REGISTER PAGE NUMBER] 7/3/2024.
| Metafor Lojistik, Ma. Istiklal Cad. Beyoglu, Istanbul, Türkiye | 85 FR 64017, October 9, 2020. 89 FR [INSERT FEDERAL REGISTER PAGE NUMBER] 7/3/2024.
| Piro Deniz Motorlari, Safak Mh. Akdeniz San. Sit. 50003 Sk., No: 115 Kepez—Antalya, Antalya, Türkiye | 88 FR 17708, March 24, 2023. 89 FR [INSERT FEDERAL REGISTER PAGE NUMBER] 7/3/2024.
| Üçüzler Lojistik Gida Tekstil, a.k.a. Üçüzler Lojistik Ltd Sti, Yeni Mahalle Hamit Öcal Caddesi, No 35/1, Reyhanli/Hatay, Türkiye 31500; and Yeni Mahalle Hamit Öcal Caddesi, No 29, Reyhanli/Hatay, Turkey 31500; and Yeni Mahalle Dr. Nihat Kural Sk., Apt No: 15/11, Reyhanli/Hatay, Türkiye 31500 | 88 FR 17708, March 24, 2023. 89 FR [INSERT FEDERAL REGISTER PAGE NUMBER] 7/3/2024.
UNITED ARAB EMIRATES
* * * * * * *
| Navio Shipping LLC, Suite 3801, Aspin Commercial Tower Sheikh Zayed Road, PO Box 122471 Dubai, UAE | 89 FR [INSERT FEDERAL REGISTER PAGE NUMBER] 7/3/2024.
* * * * * * *

Matthew S. Borman,
Deputy Assistant Secretary for Export Administration.

[FR Doc. 2024-14642 Filed 7-2-24; 8:45 am]

BILLING CODE 3510-33-P